DEPARTMENT OF HEALTH AND HUMAN SERVICES

Centers for Disease Control and Prevention

[30Day-24-23HS]

Agency Forms Undergoing Paperwork Reduction Act Review

In accordance with the Paperwork Reduction Act of 1995, the Centers for Disease Control and Prevention (CDC) has submitted the information collection request titled “National Survey of Syringe Services Programs (NSSSP)”, to the Office of Management and Budget (OMB) for review and approval. CDC previously published a “Proposed Data Collection Submitted for Public Comment and Recommendations” notice on May 4, 2023, to obtain comments from the public and affected agencies. CDC received two public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Program Evaluation for PS22-2208 Component 2—New—National Center for HIV, Viral Hepatitis, STD, and TB Prevention (NCHHSTP), Centers for Disease Control and Prevention, Centers for Disease Control and Prevention (CDC).

Background and Brief Description

PS22-2208 Component 2 (Strengthening Syringe Services Programs) serves as a coordinated and accountable mechanism for distribution of funding to syringe services programs (SSPs) to support implementation and expansion of services in areas of the United States, Territories, and Tribal Nations disproportionately affected by infectious disease consequences of injection drug use. Project activities will directly contribute to establishing and expanding a national SSP infrastructure and prevention of infectious disease consequences of drug use. CDC has funded the National Alliance of State and Territorial AIDs Directors (NASTAD) to implement this project. NASTAD, in partnership with University of Washington will collect monitoring and evaluation data from funded SSPs through their internal mechanisms, both for their internal evaluation as well as to report semi-annual and annual project performance reports and stratified aggregate data to CDC. The primary purpose of this information collection is to monitor and evaluate the PS22-2208 Component 2 funding opportunity's overall goal of supporting SSP subrecipients in meeting the needs of people who use drugs (PWUD) and reducing infectious disease and other harms related to drug use.

During the first year of this Cooperative Agreement, all PS22-2208 SSP subrecipients will be sent a 25-minute baseline program evaluation survey at the start of project implementation, and a 15-minute quarterly program evaluation survey in the following three quarters of the project period. For Years 2-5, new PS22-2208 SSP subrecipients will be sent the baseline survey at the start of project implementation, and all existing subrecipients will receive the quarterly program evaluation survey in the following three quarters of the project period. SSP subrecipients will primarily complete the survey online in REDCap, with options to complete via telephone or videoconferencing modalities. Subrecipients will be asked to complete the surveys within one month of receipt and will receive weekly reminders until the survey is complete. SSP subrecipients may be reminded informally during meetings with NASTAD and may also work with their NASTAD point-of-contact to determine an alternate method of survey completion. The survey will include questions on operational and programmatic characteristics, and quantity of prevention and treatment services provided in-person, through tele-health, and through navigation to off-site care, during the specified evaluation period.

Approximately 200 SSPs will participate in the survey. We estimate that it will take 70 minutes for each SSP to complete the baseline survey and three quarterly surveys, regardless of how the respondent chooses to complete it (i.e., self-administered online or NASTAD staff-administered by phone or videoconferencing). CDC requests OMB approval for an estimated 233 annual burden hours. There is no cost to survey participants other than their time.

Estimated Annualized Burden Hours
Respondent | Form | Number of respondents | Number of responses per respondent | Average burden per response (hours)
All participating SSPs | Strengthening Syringe Services Programs Baseline Survey | 200 | 1 | 25/60
All participating SSPs | Strengthening Syringe Services Programs Quarterly Survey | 200 | 3 | 15/60

Jeffrey M. Zirger,
Lead, Information Collection Review Office, Office of Public Health Ethics and Regulations, Office of Science, Centers for Disease Control and Prevention.

[FR Doc. 2024-10358 Filed 5-10-24; 8:45 am]

BILLING CODE 4163-18-P